DEPARTMENT OF ENERGY

Federal Energy Regulatory Commission

Combined Notice of Filings #2

Take notice that the Commission received the following exempt wholesale generator filings:

Docket Numbers: EG13-45-000.

Applicants: Quantum Auburndale Power, LP.

Description: Quantum Auburndale Power, LP Notice of Self-Certification of Exempt Wholesale Generator Status.

Filed Date: 7/1/13.

Accession Number: 20130701-5074.

Comments Due: 5 p.m. ET 7/22/13.

Docket Numbers: EG13-46-000.

Applicants: Quantum Lake Power, LP.

Description: Quantum Lake Power, LP Notice of Self-Certification of Exempt Wholesale Generator Status.

Filed Date: 7/1/13.

Accession Number: 20130701-5075.

Comments Due: 5 p.m. ET 7/22/13.

Take notice that the Commission received the following electric rate filings:

Docket Numbers: ER10-1840-003.

Applicants: Blythe Energy Inc.

Description: Blythe Energy Inc. MBR Tariff to be effective 7/20/2013.

Filed Date: 7/1/13.

Accession Number: 20130701-5001.

Comments Due: 5 p.m. ET 7/22/13.

Docket Numbers: ER10-1569-004; ER12-21-009; ER11-2855-009; ER10-1564-005; ER10-1565-005; ER11-3727-005; ER10-1566-005; ER11-2062-005; ER10-1291-006; ER11-2508-004; ER11-4307-005; ER12-1711-005; ER12-261-004; ER13-1136-003; ER10-1568-005; ER10-1581-007; ER13-1803-001; ER13-1790-001; ER13-1746-001; ER12-1525-005; ER12-2019-004; ER10-1582-004; ER12-2398-004; ER11-3459-004; ER11-4308-005; ER11-2805-004; ER10-1580-007; ER11-2856-009; ER11-2857-009.

Applicants: NRG Power Marketing LLC, Sun City Project LLC, Sand Drag LLC, Saguaro Power Company, A Limited Partnership, RRI Energy Services, LLC, Reliant Energy Northeast LLC, NRG Solar Roadrunner LLC, NRG Solar Borrego I LLC, NRG Solar Blythe LLC, NRG Solar Avra Valley LLC, NRG Solar Alpine LLC, NRG Marsh Landing LLC, NRG Delta LLC, NRG California South LP, Long Beach Peakers LLC, Long Beach Generation LLC, Ivanpah Master Holdings, LLC, Independence Energy Group LLC, High Plains Ranch II, LLC, Green Mountain Energy Company, GenOn Energy Management, LLC, GenConn Energy LLC, Energy Plus Holdings LLC, El Segundo Power, LLC, El Segundo Energy Center LLC, Cabrillo Power II LLC, Cabrillo Power I LLC, Avenal Park LLC, Agua Caliente Solar, LLC.

Description: Triennial Market Power Analysis for the Southwest Region of NRG Power Marketing LLC, et al.

Filed Date: 6/28/13.

Accession Number: 20130628-5328.

Comments Due: 5 p.m. ET 8/27/13.

Docket Numbers: ER10-2290-002; ER10-2187-001.

Applicants: Avista Corporation.

Description: Triennial Market Power Update for the Northwest Region of the Avista Corporation, et al.

Filed Date: 7/1/13.

Accession Number: 20130701-5211.

Comments Due: 5 p.m. ET 8/30/13.

Docket Numbers: ER10-3097-000.

Applicants: Bruce Power Inc.

Description: Market Power Analysis for the Southwest Region of Bruce Power Inc.

Filed Date: 7/1/13.

Accession Number: 20130701-5065.

Comments Due: 5 p.m. ET 8/30/13.

Docket Numbers: ER10-3301-002; ER10-2757-002; ER10-2756-002.

Applicants: Arlington Valley, LLC, Griffith Energy LLC, GWF Energy LLC.

Description: Triennial Market Power Update for the Southwest Region of the GWF Energy LLC, et al.

Filed Date: 6/28/13.

Accession Number: 20130628-5326.

Comments Due: 5 p.m. ET 8/27/13.

Docket Numbers: ER11-3013-002.

Applicants: Coolidge Power LLC.

Description: Triennial Market Power Update for the Southwest Region of the Coolidge Power LLC.

Filed Date: 6/28/13.

Accession Number: 20130628-5327.

Comments Due: 5 p.m. ET 8/27/13.

Docket Numbers: ER11-4315-002; ER10-3144-002.

Applicants: Gila River Power LLC, Entegra Power Services LLC.

Description: Triennial Market Power Update for the Southwest Region of the Gila River Power LLC, et al.

Filed Date: 6/28/13.

Accession Number: 20130628-5325.

Comments Due: 5 p.m. ET 8/27/13.

Docket Numbers: ER13-1182-001.

Applicants: Niagara Mohawk Power Corporation, New York Independent System Operator, Inc.

Description: National Grid response to FERC information request re: pending TSC revisions to be effective 7/1/2013.

Filed Date: 7/1/13.

Accession Number: 20130701-5039.

Comments Due: 5 p.m. ET 7/22/13.

Docket Numbers: ER13-1867-000.

Applicants: New England Power Pool Participants Committee.

Description: July 2013 Membership Filing to be effective 6/1/2013.

Filed Date: 7/1/13.

Accession Number: 20130701-5000.

Comments Due: 5 p.m. ET 7/22/13.

Docket Numbers: ER13-1868-000.

Applicants: Watson Cogeneration Company.

Description: Change in Status Filing to be effective N/A.

Filed Date: 7/1/13.

Accession Number: 20130701-5002.

Comments Due: 5 p.m. ET 7/22/13.

Docket Numbers: ER13-1869-000.

Applicants: Southwest Power Pool, Inc.

Description: 2028R4 Sunflower Electric Power Corporation NITSA and NOA to be effective 6/1/2013.

Filed Date: 7/1/13.

Accession Number: 20130701-5076.

Comments Due: 5 p.m. ET 7/22/13

Docket Numbers: ER13-1870-000.

Applicants: New England Power Pool Participants Committee, ISO New England Inc.

Description: Revision to Billing Policy Related to State Sales Tax to be effective 8/30/2013.

Filed Date: 7/1/13.

Accession Number: 20130701-5087.

Comments Due: 5 p.m. ET 7/22/13.

Docket Numbers: ER13-1871-000.

Applicants: PJM Interconnection, L.L.C.

Description: Original Service Agreement No. 3585—Queue Position Y1-072 to be effective 5/30/2013.

Filed Date: 7/1/13.

Accession Number: 20130701-5111.

Comments Due: 5 p.m. ET 7/22/13.

Docket Numbers: ER13-1872-000.

Applicants: Southwest Power Pool, Inc.

Description: 2562 Kansas Municipal Energy Agency NITSA and NOA to be effective 6/1/2013.

Filed Date: 7/1/13.

Accession Number: 20130701-5118.

Comments Due: 5 p.m. ET 7/22/13.

Docket Numbers: ER13-1873-000.

Applicants: PJM Interconnection, L.L.C.

Description: Notice of Cancellation of Original Service Agreement No. 2720; Queue No. V4-001 to be effective 5/30/2013.

Filed Date: 7/1/13.

Accession Number: 20130701-5132.

Comments Due: 5 p.m. ET 7/22/13.

Docket Numbers: ER13-1874-000.

Applicants: American Electric Power Service Corporation.

Description: Request of American Electric Power Service Corporation for Waiver of Certain Affiliate Restrictions.

Filed Date: 6/28/13.

Accession Number: 20130628-5323.

Comments Due: 5 p.m. ET 7/19/13.

Docket Numbers: ER13-1875-000.

Applicants: New England Power Pool Participants Committee, ISO New England Inc.

Description: New England Power Pool Participants Committee submits tariff filing per 35.13(a)(2)(iii: Revisions to ISO Tariff to Meet Conditions of CFTC Exemption to be effective 8/30/2013.

Filed Date: 7/1/13.

Accession Number: 20130701-5185.

Comments Due: 5 p.m. ET 7/22/13.

Docket Numbers: ER13-1876-000.

Applicants: BP Energy Company.

Description: BP Energy Company submits tariff filing per 35.13(a)(2)(iii: Change in Status and Request for Waiver of Triennial Market Power Update to be effective 7/2/2013.

Filed Date: 7/1/13.

Accession Number: 20130701-5220.

Comments Due: 5 p.m. ET 7/22/13.

Docket Numbers: ER13-1877-000.

Applicants: New England Power Pool Participants Committee, ISO New England Inc.

Description: New England Power Pool Participants Committee submits tariff filing per 35.13(a)(2)(iii: Energy Market Offer Flexibility Changes to be effective 12/3/2014.

Filed Date: 7/1/13.

Accession Number: 20130701-5238.

Comments Due: 5 p.m. ET 7/22/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 1, 2013.
Nathaniel J. Davis, Sr.,
Deputy Secretary.

[FR Doc. 2013-16447 Filed 7-8-13; 8:45 am]

BILLING CODE 6717-01-P